DEPARTMENT OF TRANSPORTATION

Office of the Secretary

Aviation Proceedings, Agreements Filed the Week Ending February 18, 2012

The following Agreements were filed with the Department of Transportation under the Sections 412 and 414 of the Federal Aviation Act, as amended (49 U.S.C. 1382 and 1384) and procedures governing proceedings to enforce these provisions. Answers may be filed within 21 days after the filing of the application.

Docket Number: DOT-OST-2012-0024.

Date Filed: February 16, 2012.

Parties: Members of the International Air Transport Association.

Subject: PTC COMP Mail Vote 701—Resolution 011a Mileage Manual, Non TC Member/Non IATA Carrier Sectors, Intended Effective Date 15 March 2012, for Implementation 1 April 2012 (Memo 1663).

Renee V. Wright,
Program Manager, Docket Operations, Federal Register Liaison.

[FR Doc. 2012-5523 Filed 3-6-12; 8:45 am]

BILLING CODE 4910-9X-P